DEPARTMENT OF LABOR

Employment and Training Administration

[TA-W-55,562]

Engineering Service Inc., Troy, MI; Notice of Termination of Investigation

Pursuant to section 221 of the Trade Act of 1974, as amended, an investigation was initiated on September 7, 2004, in response to a worker petition filed on behalf of workers at Engineering Service, Inc., Troy, Michigan.

The Department issued a negative determination (TA-W-55,549) applicable to the petitioning group of workers on September 28, 2004. Further, investigation revealed that the petition filed on behalf of workers of Engineering Service, Inc., Troy, Michigan, TA-W-55,562 is a duplicate. Consequently, further investigation would serve no purpose, and the investigation has been terminated.

Signed in Washington, DC, this 6th day of October, 2004.
Elliott S. Kushner,
Certifying Officer, Division of Trade Adjustment Assistance.

[FR Doc. E4-2846 Filed 10-25-04; 8:45 am]

BILLING CODE 4510-30-P